DEPARTMENT OF AGRICULTURE

National Agricultural Statistics Service

Notice of Intent To Request To Reinstate an Information Collection

AGENCY: National Agricultural Statistics Service, USDA.

ACTION: Notice and request for comments.

SUMMARY: In accordance with the Paperwork Reduction Act of 1995, this notice announces the intention of the National Agricultural Statistics Service (NASS) to seek approval to reinstate an information collection to gather data related to the production and marketing of foods directly from farm producers to consumers or retailers. In addition NASS will collect some whole-farm data to be used to classify and group operations for summarizing and publication of results.

DATES: Comments on this notice must be received by June 15, 2020 to be assured of consideration.

ADDRESSES: You may submit comments, identified by docket number 0535-0259, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: Local Foods Survey.

OMB Control Number: 0535-0259.

Type of Request: Intent to seek approval to reinstate an information collection for a period of three years.

Abstract: Interest continues to grow in support of local agricultural economies through the purchase of foods from sources that are geographically close to the consuming areas, via channels that are direct from farm to consumer or at most one step removed. Significant policy support for local food systems began with the institution of the USDA Know Your Farmer, Know Your Food Initiative (KYF2) in September 2009. The KYF2 Initiative was designed to eliminate organizational barriers to improve coordination and availability of resources for the promotion of local food systems. This initiative is in response to the consumer and producer interests. Many community and farm advocacy groups are requesting changes in the next major agricultural program legislation (the Farm Bill) that will directly target local foods producers, consumers, and markets. The Local Food Marketing Practices Survey was initially conducted in 2015. This reinstatement will allow NASS to collect data to measure changes and growth within the local food industry on a national basis. The results of the initial survey can be found at the following link https://www.nass.usda.gov/Publications/AgCensus/2012/Online_Resources/Local_Food/index.php.

In preparation for this next round of data collection, NASS included a question in the 2017 Census of Agriculture to capture data needed to identify farm operators who sold products through direct marketing channels. As a follow-on survey to the 2017 Census of Agriculture, the target population will focus on respondents who reported product sales directly to consumers or to retail outlets that in turn sold directly to consumers. NASS intends to use mandatory reporting authority (Title 7 U.S. Code § 2204g) for the 2020 Local Food Marketing Practices Survey.

Authority: The data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.), and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 30 minutes per response. NASS plans to mail out publicity materials with the questionnaires to inform producers of the importance of this survey. NASS will also use multiple mailings, followed up with phone and limited personal enumeration to increase response rates and to minimize data collection costs.

Respondents: Farmers and Ranchers.

Estimated Number of Respondents: 31,000.

Estimated Total Annual Burden on Respondents: 17,500 hours.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological, or other forms of information technology collection methods.

All responses to this notice will become a matter of public record and be summarized in the request for OMB approval.

Signed at Washington, DC, April 8, 2020.
Kevin L. Barnes,
Associate Administrator.

[FR Doc. 2020-08003 Filed 4-15-20; 8:45 am]

BILLING CODE 3410-20-P